DEPARTMENT OF THE INTERIOR

Office of the Secretary

Proposed Renewal of Information Collection: Trust Funds for Tribes and Individual Indians

AGENCY: Office of the Special Trustee for American Indians, Office of the Secretary, Interior.

ACTION: Notice of request for comments.

SUMMARY: In compliance with the Paperwork Reduction Act of 1995, the Office of Special Trustee for American Indians announced the proposed extension of a public information collection, “Trust Funds for Tribes and Individual Indians, 25 CFR 115,” OMB Control No. 1035-0004, and that it is seeking comments on its provisions.

DATES: Consideration will be given to all comments received by May 28, 2013.

ADDRESSES: Send your written comments to Helen Riggs, Office of the Special Trustee for American Indians, 4400 Masthead Street NE., Albuquerque, NM 87109 or email them to: helen_riggs@ost.doi.gov. Individuals providing comments should reference “Trust Funds for Tribes and Individual Indians, 25 CFR 115,” OMB Control No. 1035-0004.

FOR FURTHER INFORMATION CONTACT: To request a copy of the information collection request, any explanatory information and related forms, contact Helen Riggs at telephone number 505-816-1131, or send email to helen_riggs@ost.doi.gov.

SUPPLEMENTARY INFORMATION:

I. Abstract

This notice is for renewal of information collection.

The Office of Management and Budget (OMB) regulations at 5 CFR part 1320, which implement the Paperwork Reduction Act of 1995, 44 U.S.C. 3501 et seq., require that interested members of the public and affected agencies have an opportunity to comment on information collection and recordkeeping activities (see 5 CFR 1320.8(d)).

The American Indian Trust Fund Management Reform Act of 1994 (the Reform Act) makes provisions for the Office of the Special Trustee for American Indians to administer trust fund accounts for individuals and tribes. The collection of information is required to facilitate the processing of deposits, investments, and distribution of monies held in trust by the U.S. Government and administered by the Office of the Special Trustee for American Indians. The collection of information provides the information needed to establish procedures to: deposit and retrieve funds from accounts, perform transactions such as cashing checks, reporting lost or stolen checks, stopping payment of checks, and general verification for account activities.

The Office of Special Trustee for American Indians has revised the application form to include a section to provide the applicant's email address and for the applicant to select method of payment.

II. Data

(1) Title: Trust Funds for Tribes and Individuals Indians, 25 CFR 115.

OMB Control Number: 1035-0004.

Current Expiration Date: July 31, 2013.

Type of Review: Information Collection Renewal.

Affected Entities: Individual Indians and Tribes who wish to initiate some activity on their accounts.

Estimated annual number of respondents: 135,662.

Frequency of responses: As needed, estimated 4 per year.

(2) Annual reporting and recordkeeping burden:

Total annual reporting per response: 15 minutes.

Total number of estimated responses: 542,646.

Total annual reporting: 135,662 hours.

(3) Description of the need and use of the information: This information collection is used to process deposits, investments, and distribution of monies held in trust by the Special Trustee for individual Indians in the administration of these accounts. The respondents submit information in order to gain or retain a benefit, namely, access to funds held in trust.

III. Request for Comments

The Department invites comments on:

(a) Whether the collection of information is necessary for the proper performance of the functions of the agencies, including whether the information will have practical utility;

(b) The accuracy of the agency's estimate of the burden of the collection of information and the validity of the methodology and assumptions used;

(c) Ways to enhance the quality, utility, and clarity of the information to be collected; and

(d) Ways to minimize the burden of the collection of information on respondents, including the use of appropriate automated, electronic, mechanical, or other collection techniques or other forms of information technology.

“Burden” means the total time, effort, and financial resources expended by persons to generate, maintain, retain, disclose, or provide information to or for a Federal agency. This includes the time needed to review instructions; to develop, acquire, install, and use technology and systems for the purposes of collecting, validating, and verifying information, processing and maintaining information, and disclosing and providing information; to train personnel and to be able to respond to a collection of information, to search data sources, and to complete and review the collection of information; and to transmit or otherwise disclose the information.

All written comments, with names and addresses, will be available for public inspection. If you wish us to withhold your personal information, you must prominently state at the beginning of your comment what personal information you want us to withhold. We will honor your request to the extent allowable by law. If you wish to view any comments received, you may do so by scheduling an appointment with the point of contact given in the ADDRESSES section. A valid picture identification is required for entry into the Department of the Interior.

Comments submitted in response to this notice will be summarized and/or included in the request for OMB approval of this information collection; they also will become a matter of public record.

An agency may not conduct or sponsor, and a person is not required to respond to, a collection of information unless it displays a currently valid Office of Management and Budget control number.

Dated: March 15, 2013.
Jim James,
Deputy Special Trustee—Field Operations, Office of the Special Trustee for American Indians.

[FR Doc. 2013-06970 Filed 3-26-13; 8:45 am]

BILLING CODE 4310-2W-P